DEPARTMENT OF HOMELAND SECURITY

Coast Guard

33 CFR Part 117

[USCG-2013-0881]

Drawbridge Operation Regulations; Cheesequake Creek, Morgan, NJ

AGENCY: Coast Guard, DHS.

ACTION: Notice of temporary deviation from regulations.

SUMMARY: The Commander, First Coast Guard District, has issued a temporary deviation from the regulation governing the operation of the New Jersey Transit Rail Operation (NJTRO) Railroad Bridge across Cheesequake Creek, mile 0.2, at Morgan, New Jersey. Under this temporary deviation, a four hour advance notice for openings on weekdays and one hour advance notice on weekends shall be required for bridge openings to facilitate scheduled bridge painting of the movable span.

DATES: This deviation is effective from November 4, 2013 through December 19, 2013, and has been enforced with actual notice since October 28, 2013.

ADDRESSES: The docket for this deviation, [USCG-2013-0881] is available at http://www.regulations.gov. Type the docket number in the “SEARCH” box and click “SEARCH.”

Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Joe Arca, Project Officer, First Coast Guard District, joe.m.arca@uscg.mil, or (212) 668-7165. If you have questions on viewing the docket, call Barbara Hairston, Program Manager, Docket Operations, telephone 202-366-9826.

SUPPLEMENTARY INFORMATION: The NJTRO railroad bridge has a vertical clearance of 3 feet at mean high water, and 8 feet at mean low water in the closed position. The existing drawbridge operating regulations are found at 33 CFR 117.709(b).

The bridge owner, NJTRO, requested a four hour and one hour advance notice for bridge openings to facilitate the painting of the movable span of the bridge and allow sufficient time to safely open the bridge.

Under this temporary deviation, the bridge may require a four hour advance notice on weekdays and a one hour advance notice on weekends for bridge openings to facilitate scheduled bridge painting of the movable span.

Cheesequake Creek is predominantly a recreational waterway. The bridge rarely opens during weekdays when this temporary deviation will be in effect.

In accordance with 33 CFR 117.35(e), the bridge must return to its regular operating schedule immediately at the end of the designated repair period. This deviation from the operating regulations is authorized under 33 CFR 117.35.

Dated: October 11, 2013.
Gary Kassof,
Bridge Program Manager, First Coast Guard District.

[FR Doc. 2013-26210 Filed 11-1-13; 8:45 am]

BILLING CODE 9110-04-P